DEPARTMENT OF HEALTH AND HUMAN SERVICES

[Document Identifier 4040-0002]

Agency Information Collection Request. 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before May 10, 2019.

ADDRESSES: Submit your comments to Sherrette.Funn@hhs.gov or by calling (202) 795-7714.

FOR FURTHER INFORMATION CONTACT: When submitting comments or requesting information, please include the document identifier 4040-0002-60D and project title for reference., to Sherrette.funn@hhs.gov, or call the Reports Clearance Officer.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: The SF-424 Mandatory Form.

Type of Collection: Reinstatement without change.

OMB No. 4040-0002.

Abstract: The SF-424 Mandatory Form provides the Federal grant-making agencies an alternative to the Standard Form 424 data set and form. Agencies may use the SF-424 Mandatory Form for grant programs not required to collect all the data that is required on the SF-424 core data set and form.

Type of respondent: The SF-424 Mandatory form is used by organizations to apply for Federal financial assistance in the form of grants. These forms are submitted to the Federal grant-making agencies for evaluation and review.

Annualized Burden Hour Table
Forms | Respondents (if necessary) | Number of respondents | Number of responses per respondents | Average burden per response | Total burden hours
SF-424 Mandatory | Grant applicants | 5761 | 1 | 1 | 5761
Total |  | 5761 | 1 | 1 | 5761

Dated: March 5, 2019.
Terry Clark,
Assistant Information Collection Clearance Officer.

[FR Doc. 2019-04288 Filed 3-8-19; 8:45 am]

BILLING CODE 4151-AE-P